DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 30, 2006.

Interested persons are invited to submit written comments regarding the subject matter of the investigations to the Director, Division of Trade Adjustment Assistance, at the address shown below, not later than May 30, 2006.

The petitions filed in this case are available for inspection at the Office of the Director, Division of Trade Adjustment Assistance, Employment and Training Administration, U.S. Department of Labor, Room C-5311, 200 Constitution Avenue, NW., Washington, DC 20210.

Signed at Washington, DC this 10th day of May 2006.
Erica R. Cantor,
Director, Division of Trade Adjustment Assistance.

Appendix
[TAA petitions instituted between 5/1/06 and 5/5/06]
TA-W | Subject firm (petitioners) | Location | Date of institution | Date of petition
59301 | Marineland (Comp) | Moorpark, CA | 05/01/06 | 04/26/06
59302 | Integrated Services Analysts (State) | Dearborn, MI | 05/01/06 | 04/28/06
59303 | South Mountain Technologies (USA), Inc. (Comp) | Wilsonville, OR | 05/01/06 | 04/24/06
59304 | DeRoyal (Orthopedic) (Comp) | Dryden, VA | 05/01/06 | 04/28/06
59305 | PDS Technical Services, Inc. (Comp) | Irving, TX | 05/01/06 | 04/24/06
59306 | Liebert Corporated (State) | Irvine, CA | 05/01/06 | 04/28/06
59307 | Royal Oak (State) | Jacksonville, TX | 05/01/06 | 04/28/06
59308 | Michelin Tire Corp. (Wkrs) | Greenville, SC | 05/01/06 | 04/13/06
59309 | Rich's Rolling Pin, Inc. (Wkrs) | Pine Bluff, AK | 05/01/06 | 04/28/06
59310 | Motorola, Inc. (State) | Lawrenceville, GA | 05/01/06 | 03/29/06
59311 | Paxar (Comp) | Weston, WV | 05/01/06 | 04/28/06
59312 | Chicago Castings (Wkrs) | Cicero, IL | 05/01/06 | 05/01/06
59313 | DeFrancesco and Sons (State) | Firebaugh, CA | 05/02/06 | 04/24/06
59314 | Anritsu Instruments Co. (Comp) | Utica, NY | 05/02/06 | 05/02/06
59315 | Lear Corporation (Wkrs) | Walker, MI | 05/02/06 | 04/20/06
59316 | Sargent Art, Inc. (Comp) | Hazleton, PA | 05/02/06 | 04/12/06
59317 | Ascent/Son Mfg. (State) | San Jose, CA | 05/02/06 | 04/18/06
59318 | Vogue Wallcoverings (Comp) | Fitchburg, MA | 05/03/06 | 05/02/06
59319 | Parker and Harper Co., Inc. (Comp) | Worcester, MA | 05/03/06 | 05/02/06
59320 | Artee-Wrap Spun Yarns (Comp) | Lincolnton, NC | 05/03/06 | 05/02/06
59321 | Vails Gate Manufacturing, LLC (State) | New York, NY | 05/03/06 | 04/28/06
59322 | Frame Builders Industries (Comp) | Thomasville, NC | 05/03/06 | 05/01/06
59323 | Moore Wallace, Inc. (Comp) | Monroe, WI | 05/03/06 | 04/28/06
59324 | Hiawatha Land Tool, Inc. (State) | Kasson, MN | 05/03/06 | 05/03/06
59325 | Stanco Metal Products, Inc. (State) | Grand Haven, MI | 05/03/06 | 04/27/06
59326 | Dura Art Stone, Inc. (Union) | Fontana, CA | 05/04/06 | 05/03/06
59327 | Stravina Operating Co., LLC (Comp) | Chatsworth, CA | 05/04/06 | 04/07/06
59328 | Funny-Bunny Cachcach (State) | Santa Ana, CA | 05/04/06 | 05/03/06
59329 | Optical Electro Forming (State) | Clearwater, FL | 05/04/06 | 05/02/06
59330 | Carolina Mills, Inc. (Comp) | Lincolnton, NC | 05/04/06 | 05/04/06
59331 | Orpack-Stone Corp. (State) | Herrin, IL | 05/04/06 | 05/04/06
59332 | PTG Global (State) | Santa Ana, CA | 05/04/06 | 05/04/06
59333 | Superior Industries International, Inc. (State) | Van Nuys, CA | 05/04/06 | 05/04/06
59334 | Carson Industries (Wkrs) | Freeport, PA | 05/04/06 | 05/04/06
59335 | Smead Manufacturing Co. (Comp) | Logan, OH | 05/04/06 | 05/04/06

[FR Doc. E6-7524 Filed 5-16-06; 8:45 am]

BILLING CODE 4510-30-P